DEPARTMENT OF EDUCATION

National Assessment Governing Board; Meeting

AGENCY: National Assessment Governing Board; Education.

ACTION: Notice of open meeting and closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than July 30, 2004. We will attempt to meet requests after this date, but cannot guarantee availability of the requested accommodation. The meeting site is accessible to individuals with disabilities.

DATES: August 5-August 7, 2004.

Times:

August 5: Committee Meetings: Assessment Development Committee: closed session—9 a.m. to 2:30 p.m.; Ad Hoc Committee on NAEP 12th Grade Participation: open session—2:30 p.m. to 4 p.m.; Executive Committee: open session—4:30 p.m. to 5 p.m.; closed session—5 p.m. to 6 p.m.

August 6: Full Board: open session—8:30 a.m. to 5 p.m.; Committee Meetings: Assessment Development Committee: open session—10 a.m. to 12 p.m.; Committee on Standards, Design, and Methodology; open sessison—10 a.m. to 12 p.m.; Reporting and Dissemination Committee: open session—10 a.m. to 12 p.m.

August 7: Full Board: open session—8:15 a.m. to 12 p.m.

Location: The St. Regis Hotel, 923 16th and K Streets, NW., Washington, DC 20006.

FOR FURTHER INFORMATION CONTACT: Munira Mwalimu, Operations Officer, National Assessment Government Board, 800 North Capitol Street, NW., Suite 825, Washington, DC, 20002-4233, telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on August 5 from 9 a.m. to 2:30 p.m. to review secure test items for the National Assessment of Educational Progress (NAEP) 2006 assessments in U.S. History and Civics, and the NAEP 2007 Reading Assessment. The meeting must be conducted in closed session as disclosure of proposed test items from the NAEP assessments would significantly impede implementation of the NAEP program, and is therefore protected by exemption 9(B) of section 552b(c) of title 5 U.S.C.

On August 5, the Ad Hoc Committee on NAEP 12th Grade Participation and Motivation will meet in open session from 2:30 p.m. to 4 p.m. The Execution Committee will meet in open session on August 5 from 4:30 p.m. to 5 p.m. The committee will then meet in closed session from 5 p.m. to 6 p.m. to discuss independent government cost estimates for contracts related to the National Assessment of Educational Progress (NAEP). This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of title 5 U.S.C.

On August 6, the full Board will meet in open session from 8 a.m. to 5 p.m. The Board will approve the agenda; recognize departing Board members; hear the Executive Director's report; receive an update on the work of the National Center for Education Statistics (NCES) from the Commissioner of NCES, Robert Lerner; and discuss NAEP inclusion and accommodation issues.

From 10 a.m. to 12 p.m. on August 6, the Board's standing committees— the Assessment Development Committee; the Committee on Standards, Design and Methodology; and the Reporting and Dissemination Committee—will meet in open session.

From 12:30 p.m. to 1 p.m., Board members will receive an ethics briefing from staff of the Office of General Counsel. This will be followed by Board discussion and action on the NAEP 2009 Reading Framework from 1 p.m. to 3 p.m. The Board will then receive a briefing on models for describing “readiness” for postsecondary education from 3:15 p.m. to 5 p.m., after which the August 6 session of the Board meeting will adjourn.

On August 7, the full Board will meet in open session from 8:15 a.m. to 12 p.m. At 8:15 a.m., the Board will receive a briefing on pre-conference sessions that took place at the Large-Scale Assessment Conference. From 8:30 a.m. to 9:15 a.m., the Board will discuss NAEP Reporting Guidelines. This item will be followed by a presentation on student “readiness” for postsecondary options from 9:15 a.m. to 9:45 a.m.

From 10 a.m. to 11 a.m., the Board will discuss issues related to 12th Grade NAEP. Board actions on policies and Committee reports are scheduled to take place between 11 a.m. and 11:45 a.m., Board members will elect the Vice Chair from 11:45 to 12 noon, upon which the August 7, 2004, session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: July 13, 2004.
Charles E. Smith,
Executive Director, National Assessment Governing Board.

[FR Doc. 04-16163 Filed 7-15-04; 8:45 am]

BILLING CODE 4000-01-M